DEPARTMENT OF COMMERCE

International Trade Administration

[A-351-824]

Silicomanganese From Brazil: Extension of Time Limit for Final Results of Antidumping Duty Administrative Review

AGENCY: Import Administration, International Trade Administration, Department of Commerce.

ACTION: Notice of extension of time limit for final results of antidumping duty administrative review.

SUMMARY: The Department of Commerce is extending the time limit for the final results of the administrative review of the antidumping duty order on silicomanganese from Brazil. The final results of this review are now due no later than March 16, 2004.

EFFECTIVE DATE: March 1, 2004.

FOR FURTHER INFORMATION CONTACT: Brian Ellman, (202) 482-4852, or Katja Kravetsky, (202) 482-0108, AD/CVD Enforcement 3, Import Administration, International Trade Administration, U.S. Department of Commerce, 14th Street and Constitution Ave., NW, Washington, DC 20230.

SUPPLEMENTARY INFORMATION:

Background

On October 27, 2003, the Department of Commerce (the Deparment) published the preliminary results of the administrative review of the antidumping duty order on silicomanganese from Brazil. See Silicomanganese from Brazil: Preliminary Results of Antidumping Duty Administrative Review, 68 FR 61185. We invited parties to comment on our preliminary results. We received comments from both the petitioner and the respondent. Currently, the final results of this administrative review are due no later than February 24, 2004.

Extension of Time Limit for Final Results of Review

Section 751(a)(3)(A) of the Tariff Act of 1930, as amended (the Act), provides that the Department will issue the final results of an administrative review within 120 days after the date on which the preliminary results were published. It provides further that, if it is not practicable to complete the review within the 120-day period, the Department may extend the period by 60 days.

This review involves complex cost issues, such as high inflation, and the Department needs additional time to consider the arguments raised by the parties after the preliminary results of review. For these reasons, the Department has determined that it is not practicable to complete the final results within the time limits mandated by section 751(a)(3)(A) of the Act. Therefore, in accordance with that section, the Department is extending the time limit for completion of the final results by 21 days. The final results of review are now due no later than March 16, 2004.

Dated: February 23, 2004.
Jeffrey May,
Deputy Assistant Secretary for Import Administration, Group I.

[FR Doc. 04-4494 Filed 2-27-02; 8:45 am]

BILLING CODE 3510-DS-S